DEPARTMENT OF ENERGY

Energy Information Administration

Agency Information Collection Activities: Submission for OMB Review, Comment Request

AGENCY: Energy Information Administration (EIA), Department of Energy (DOE).

ACTION: Agency information collection activities: submission for OMB review, comment request.

SUMMARY: The EIA has submitted the energy information collections listed at the end of this notice to the Office of Management and Budget (OMB) for review and a three-year extension under section 3507(h)(1) of the Paperwork Reduction Act of 1995 (Pub. L. 104-13) (44 U.S.C. 3501 et seq).

DATES: Comments must be filed on or before October 11, 2001. If you anticipate that you will be submitting comments but find it difficult to do so within that period, you should contact the OMB Desk Officer for DOE listed below as soon as possible.

ADDRESSES: Send comments to the OMB Desk Officer for DOE, Office of Information and Regulatory Affairs, Office of Management and Budget, 726 Jackson Place NW., Washington, DC 20503. The OMB Desk Officer may be telephoned at (202) 395-7318. (A copy of your comments should also be provided to EIA's Statistics and Methods Group at the address below.)

FOR FURTHER INFORMATION CONTACT: Requests for additional information should be directed to Grace Sutherland, Statistics and Methods Group, (EI-70), Forrestal Building, U.S. Department of Energy, Washington, DC 20585-0670. Mrs. Sutherland may be contacted by telephone at (202) 287-1712, FAX at (202) 287-1705, or e-mail at Grace.Sutherland@eia.doe.gov.

SUPPLEMENTARY INFORMATION: This section contains the following information about the energy information collections submitted to OMB for review: (1) The collection numbers and title; (2) the sponsor (i.e., the Department of Energy component); (3) the OMB docket number; (4) the type of request (i.e., new, revision, extension, or reinstatement); (5) response obligation (i.e., mandatory, voluntary, or required to obtain or retain benefit); (6) a description of the need for and proposed use of the information; (7) a categorical description of the likely respondents; and (8) an estimate of the total annual reporting burden (i.e., the estimated number of likely respondents times the proposed frequency of response per year times the average hours per response).

1. Forms EIA-411, 412, 423, 767, 826, 860, 861, and 906, “Electric Power Program”

2. Energy Information Administration

3. OMB Number 1905-0129

4. Three-year extension and revision

5. Mandatory (all forms except EIA-411) and voluntary (EIA-411)

6. The Electric Power Surveys collect electric power information including capacity, generation, fuel consumption, fuel receipts, fuel stocks, and prices, along with financial information. Respondents include both regulated and unregulated entities that comprise the U.S. electric power industry. Electric power data collected are used by the Department of Energy for analysis and forecasting. Data are published in various EIA reports.

EIA has modified the forms and confidentiality provisions from those described in the March 13, 2001, solicitation of public comments. For additional details, please visit EIA's Internet site at http://www.eia.doe.gov/fuelectric.html or contact Ms. Sutherland for a copy of the materials submitted to OMB.

7. Business or other for profit; State, local or tribal government; Federal government

8. Approximately 174,000 hours of burden

Statutory Authority: Section 3607(h)(1) of the Paperwork Reduction Act of 1995 (Pub. L. 104-13).

Issued in Washington, D.C., September 6, 2001.
Jay H. Casselberry,
Agency Clearance Officer, Statistics and Methods Group; Energy Information Administration.

[FR Doc. 01-22701 Filed 9-10-01; 8:45 am]

BILLING CODE 6450-01-M